DEPARTMENT OF AGRICULTURE

Forest Service

Yates Duck Creek Federal Oil Well #1 EIS: Medicine Bow-Routt National Forests and Thunder Basin National Grassland

AGENCY: Forest Service, USDA.

ACTION: Revision of a Notice of Intent to prepare an Environmental Impact Statement.

SUMMARY: The Forest Service published a Notice of Intent to prepare an Environmental Impact Statement (EIS) for the Yates Duck Creek Federal Oil Well #1 in the Federal Register dated February 25, 2002 (FR Doc. 02-4109, pages 8512-8514). The original notice designated the Regional Forester as the Responsible Official. This revision (1) describes the current status of the Thunder Basin National Grassland Land and Resource Management Plan, 2001 Revision, (2) designates the Forest Supervisor as the Responsible Official, and (3) provides notification of a new estimated date for filing.

FOR FURTHER INFORMATION CONTACT: Liz Moncrief, Supervisor's Office, 2468 Jackson Street, Laramie, Wyoming 82070, (307) 745-2456.

SUMMARY: The Forest Service will prepare an Environmental Impact Statement (EIS) on a proposal to drill for and develop conventional oil and gas resources with one (1) well on National Forest System lands in Campbell County, Wyoming. The well would be located on Federal Lease # WYW-141191, issued in 1997, in Section 30, T.55N.,R.69W.,6th P.M.

The purpose of the project is to determine the potential for oil and gas development, by drilling one exploratory well in the Duck Creek area. The project potentially includes three phases: (1) Drilling, (2) development and/or production of oil and/or gas if discovered in producible quantities, and (3) abandonment. The initial phase of the project would include constructing access to the drill site, constructing a well pad, and drilling and testing the well. If results of testing indicate that oil and/or gas are present in producible quantities, production equipment and facilities would be installed. Development could include the installation of tanks and treatment equipment on the wellsite and a pipeline to transport the product. The project proposal also includes a plan for abandonment of the well. If oil and/or gas are not present in quantities that justify completion and production, the well would be abandoned and the site and access road reclaimed immediately. If the well is put into production, well abandonment and reclamation of the well site and access road would be performed to achieve a pre-project condition after the reservoir is depleted. The proposed well would be located in the Duck Creek Inventoried Roadless Area. If approved as proposed, the decision would permit road construction and reconstruction to occur in the roadless area. The EIS will comply with the requirements of the National Environmental Policy Act (42 U.S.C. 4321-4370a), the National Forest Management Act (16 U.S.C. 1600-1614), and the Mineral Leasing Act of 1920, as amended and supplemented (30 U.S.C. 181 et seq.), and their implementing regulations.

DATES: Comments concerning the proposal and the scope of the analysis will be accepted and considered at any time after publication of this notice in the Federal Register and prior to a decision being made.

ADDRESSES: Send written comments to Liz Moncrief, Medicine Bow-Routt National Forest Supervisor's Office, 2486 Jackson Street, Laramie, Wyoming 82070. Electronic mail may be sent to: emoncrief@fs.fed.us, fax may be sent to 307-745-2398.

FOR FURTHER INFORMATION CONTACT: Liz Moncrief, Forest Service Project Leader, 307-745-2456.

SUPPLEMENTARY INFORMATION: Yates Petroleum Corporation has filed an application with the Bureau of Land Management for a permit to drill and complete one exploration well. Drilling and completion of the well requires construction of access roads, and may include installation of testing and production equipment. As surface management agency, the Forest Service proposes to permit surface operations associated with the development of oil and/or gas resources with the drilling of one (1) well including construction of access roads and production facilities. The Forest Service will prepare an Environmental Impact Statement. This EIS disclose the environmental effects of the proposed oil and gas development.

In 1994, the Forest Service prepared the Thunder Basin Oil and Gas Leasing EIS and issued a Record of Decision (ROD) for future oil and gas development on NFS lands on the Thunder Basin National Grasslands. This decision authorized the Bureau of Land Management (BLM) to lease Federal oil and gas resources in the Duck Creek area subject to certain stipulations described in the ROD, and pertinent to the surface use of the NFS lands. Subsequent to this decision, the BLM offered the Federal lease for sale. Yates Petroleum purchased the lease in 1997. Pursuant to 43 CFR 3101.1-2 Surface Use Rights, the lessee has a right to develop the oil and gas resources on that lease area, subject to stipulations attached to the lease and other provisions as described.

The Medicine Bow National Forest and Thunder Basin National Grassland Land and Resource Management Plan of 1985, as amended by the April 22, 1994, Record of Decision for the Environmental Impact Statement (EIS) for Oil and Gas Leasing on the Thunder Basin National Grassland, provides stipulations for oil and gas leases, and standards and guidelines for oil and gas development on NFS lands. This proposal is consistent with the 1985 Land and Resource Management Plan.

The following paragraph replaces the previous paragraph to identify the current status of the Management Plan Direction.

Thunder Basin National Grassland Land and Resource Management Plan, 2001 Revision (1)

The Thunder Basin National Grassland portion of the 1985 Plan was revised as part of the Northern Great Plains Management Plan Revision process. The Final EIS and 2001 Revised Thunder Basin National Grassland Plan are completed. A Record of Decision was signed on July 31, 2002. This proposal is consistent with the 2001 Revised Thunder Basin National Grassland Plan and the preferred alternative in the Final EIS.

Decision To Be Made

The Responsible Official will consider the results of the analysis and its findings and then document the final decision in a Record of Decision (ROD). The decision will include a determination of the terms, conditions, and mitigation measures under which the proponent may develop the oil and/or gas resources while also protecting the surface natural resources in the area and providing for public safety.

Responsible Official (2)

Mary Peterson, Forest Supervisor, Medicine Bow-Routt National Forest and Thunder Basin National Grassland, Laramie, Wyoming 82070, is the official responsible for making the Forest Service decision on this action. She will document her decision and rationale in a Record of Decision.

Preliminary Issues

Proposed construction/reconstruction of access roads to the proposed well location would alter the character of portions of the Duck Creek Inventoried Roadless Area.

Public Involvement

At this time, the Forest Service is seeking information, comments and other assistance from Federal, State and local agencies, and other individuals or organizations who have an interest in, or could be affected by the proposed action. The public is encouraged to take part in this process and to visit with Forest Service officials at any time during the analysis, and prior to the decision. While public comments are welcome at any time, comments received within 30 days of the publication of this notice in the Federal Register will be most useful for the identification of issues and the analysis of alternatives. Comments may be sent by electronic mail (e-mail) to emoncrie@fs.fed.us. Written comments may be mailed to the Medicine Bow—Routt National Forest Supervisors Office, 2468 Jackson Street, Laramie, Wyoming 82070-6535, attention Liz Moncrief. Please reference the Yates-Duck Creek O&G Well EIS on the subject line. The name and mailing address of the commenter should be provided with their comments so that future documents pertaining to this environmental analysis and the decision can be provided to interested parties.

Estimated Dates for Filing (3)

The draft EIS is expected to be filed with the environmental Protection Agency (EPA) and available for public review during March 2004. At that time, the EPA will publish a Notice of Availability (NOA) of the draft EIS in the Federal Register. The comment period on the draft EIS will be for a period of not less than 45 days from the date the EPA publishes the NOA in the Federal Register. It is important that those interested in the management of this area comment at that time. The final EIS is expected to be available during July 2004. In the final EIS, the Forest Service will respond to any comments received during the public comment period that pertain to the environmental analysis.

The Public's Obligation To Comment

The Forest Service believes it is important to give reviewers an early notice of several court rulings related to public participation in the environmental review process. First, reviewers of Draft Environmental Impact Statements must structure their participation in the environmental review of the proposal so that it is meaningful and alerts an agency to the reviewer's position and contentions. Vermont Yankee Nuclear Power Corp. v. NRDC, 435 U.S. 519, 553 (1978). Also, environmental objections that could be raised during the Draft Environmental Impact Statement stage, but are not raised until after completion of the Final Environmental Impact Statement, may be waived or dismissed by the courts. City of Angoon v. Hodel, 803 F.2d 1016, 1022 (9th Cir. 1986) and Wisconsin Heritages, Inc. v. Harris, 490 F. Supp. 1334, 1338 (E.D. Wis. 1980). As a result of these previous court rulings, it is very important that those interested in this proposed action participate by the close of the 45-day comment period so that substantive comments and objections are made available to the Forest Service at a time when it can meaningfully consider them and respond to them in the Final Environmental Impact Statement.

To assist the Forest Service in identifying and considering issues and concerns related to the proposed action, comments on this Draft Environmental Impact Statement should be as specific as possible. It is also helpful if comments refer to specific pages or chapters of the draft document. Comments may also address the adequacy of the Draft Environmental Impact Statement or the merits of the alternatives displayed in the document. Reviewers should refer to the Council on Environmental Quality Regulations at 40 CFR 1503.3 for implementing the procedural provisions of the National Environmental Policy Act for addressing these points. Please note that any comments that are submitted in relation to this DEIS will be considered as public information.

Release of Names

Comments received in response to this solicitation, including names and addresses of those who comment, will be considered part of the public record on this Proposed Action and will be available for public inspection. Comments submitted anonymously will be accepted and considered; however, those who submit anonymous comments will not have standing to appeal the subsequent decision under 36 CFR parts 215 or 217. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within ten (10) days.

Responsible Official

Mary Peterson, Forest Supervisor, Medicine Bow-Routt National Forests and Thunder Basin National Grassland, 2468 Jackson Street, Laramie, Wyoming 82070, is the official responsible for making the decision on this Revised Notice of Intent action. She will document her decision and rationale in a Record of Decision.

Dated: February 3, 2004.
Mary H. Peterson,
Forest Supervisor, Medicine Bow-Routt National Forests and Thunder Basin National Grassland.

[FR Doc. 04-4848 Filed 3-3-04; 8:45 am]

BILLING CODE 3410-11-M